DEPARTMENT OF LABOR

Employment And Training Administration

[TA-W-54,603]

Cross Creek Apparel, LLC, Division of Russell Corporation, Mount Airy, NC; Notice of Termination of Investigation

Pursuant to section 221 of the Trade Act of 1974, as amended, an investigation was initiated on March 26, 2004, in response to a petition filed by the company on behalf of workers at Cross Creek Apparel LLC, Division of Russell Corporation, Mount Airy, North Carolina.

The petitioner has requested that the petition be withdrawn. Consequently, further investigation in this case would serve no purpose, and the investigation has been terminated.

Signed in Washington, DC this 13th day of April, 2004.
Elliott S. Kushner,
Certifying Officer, Division of Trade Adjustment Assistance.

[FR Doc. E4-1015 Filed 5-3-04; 8:45 am]

BILLING CODE 4510-13-P